DEPARTMENT OF ENERGY

[FE Dockets No. PP-228 and EA-228]

Applications for Presidential Permit and Electricity Export Authorization Edison Sault Electric Company

AGENCY: Office of Fossil Energy, DOE.

ACTION: Notice of Applications.

SUMMARY: Edison Sault Electric Company (ESE) has applied for a Presidential permit to construct, connect, operate and maintain a 230,000-volt (230-kV) underground electric transmission facility across the U.S. border with Canada. In addition, ESE has applied for authorization to export electric energy to Canada.

DATES: Comments, protests, or requests to intervene must be submitted on or before September 28, 2000.

ADDRESSES: Comments, protests, or requests to intervene should be addressed as follows: Office of Coal & Power Import and Export (FE-27), Office of Fossil Energy, U.S. Department of Energy, 1000 Independence Avenue, SW, Washington, DC 20585-0350.

FOR FURTHER INFORMATION CONTACT: Ellen Russell (Program Office) 202-586-9624 or Michael T. Skinker (Program Attorney) 202-586-2793.

SUPPLEMENTARY INFORMATION: The construction, connection, operation, and maintenance of facilities at the international border of the United States for the transmission of electric energy between the United States and a foreign country is prohibited in the absence of a Presidential permit issued pursuant to Executive Order (EO) 10485, as amended by EO 12038. Exports of electricity from the United States to a foreign country are also regulated and require authorization under section 202(e) of the Federal Power Act (FPA) (16 U.S.C. 824a(e)).

On August 17, 2000, ESE, a transmission and distribution company and wholly-owned subsidiary of Wisconsin Energy Corporation, an investor owned public utility, filed an application with the Office of Fossil Energy (FE) of the Department of Energy (DOE) for a Presidential permit. ESE proposes to construct an underground 230-kV transmission line from an existing substation located in Sault Ste. Marie, Michigan, to an existing substation located in Sault Ste. Marie, Ontario, Canada, a distance of approximately 6,000 feet. The facilities within Canada will be owned by Great Lakes Power Inc. (GLP), an investor owned utility in Canada. In a separate application, also filed on August 17, 2000, ESE applied for authorization to export electric energy to Canada using the proposed facilities, pursuant to section 202(e) of the FPA.

In its application, ESE notes that the purpose of the proposed transmission line and export authorization is to transmit electricity between the ESE and the GLP systems and to provide both companies with additional competitive supplies of electric power. ESE also asserts that these facilities will enhance the reliability of both systems.

ESE is proposing to develop this project in two phases. Initially, ESE would construct a 230-kV transmission line under the St. Mary's River connecting its existing Portage Road Substation, located in Sault Ste. Marie, Michigan, with GLP's existing F. H. Clergue substation, located in Sault Ste. Marie, Ontario, Canada. This is a distance of approximately 6,000 feet. In phase one, the 230-kV facilities will be operated at 69-kV have the ability to transmit 50 megawatts (MW) to Canada. At a later date, and after submission of additional electric reliability studies to DOE, ESE proposes to operate the facilities at 230-kV and increase the ability of the facilities to transmit energy to Canada.

Since restructuring of the electric power industry began, resulting in the introduction of different types of competitive entities into the marketplace, DOE has consistently expressed its policy that cross-border trade in electric energy should be subject to the same principles of comparable open access and non-discrimination that apply to transmission in interstate commerce. DOE has stated that policy in export authorizations granted to entities requesting authority to export over international transmission facilities. Specifically, DOE expects transmitting utilities owning border facilities to provide access across the border in accordance with the principles of comparable open access and non-discrimination contained in the FPA and articulated in Federal Energy Regulatory Commission Order No. 888 (Promotion Wholesale Competition Through Open Access Non-Discriminatory Transmission Services by Public utilities; FERC Stats. & Regs. ¶ 31,036 (1996)), as amended. In furtherance of this policy, on July 27, 1999, (64 FR 40586) DOE initiated a proceeding in which it noticed its intention to condition existing and future Presidential permits, appropriate for third party transmission, on compliance with a requirement to provide non-discriminatory open access transmission service. That proceeding is not yet complete. However, in this docket DOE specifically requests comment on the appropriateness of applying the open access requirement on ESE's proposed facilities.

Procedural Matters

Any person desiring to become a party to this proceeding or to be heard by filing comments or protests to this application should file a petition to intervene, comment or protest at the address provided above in accordance with §§ 385.211 or 385.214 of the FERC's rules of practice and procedures (18 CFR 385.211, 385.214). Fifteen copies of each petition and protest should be filed with the DOE on or before the date listed above.

Additional copies of such petitions to intervene or protests also should be filed directly with: Donald Sawruk, President, Edison Sault Electric Co., 725 East Portage Road, Sault, Michigan, 49783 and Mrs. Cheryl Feik Ryan, Van Ness Feldman, 1050 Thomas Jefferson Street, NW, Washington, DC 20087.

Before a Presidential permit or electricity export authorization may be issued or amended, the DOE must determine that the proposed action will not adversely impact on the reliability of the U.S. electric power supply system. In addition, DOE must consider the environmental impacts of the proposed actions pursuant to the National Environmental Policy Act of 1969. DOE also must obtain the concurrence of the Secretary of State and the Secretary of Defense before taking final action on a Presidential permit application.

Copies of these applications will be made available, upon request, for public inspection and copying at the address provided above. In addition, the application may be reviewed or downloaded from the Fossil Energy Home Page at: http://www.fe.doe.gov. Upon reaching the Fossil Energy Home page, select “Electricity” from the options menu, and then “Pending Proceedings.”

Issued in Washington, DC, on August 22, 2000.
Anthony J. Como,
Deputy Director, Electric Power Regulation, Office of Coal & Power Im/Ex, Office of Fossil Energy.

[FR Doc. 00-22001 Filed 8-28-00; 8:45 am]

BILLING CODE 6450-01-P